DEPARTMENT OF THE INTERIOR

Fish and Wildlife Service

[FWS-R8-ES-2024-N006; FXES11130800000-245-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before March 7, 2024.

ADDRESSES: Document availability and comment submission: Submit requests for copies of the applications and related documents and submit any comments by one of the following methods. All requests and comments should specify the applicant name(s) and application number(s) (e.g., XXXXXX or PER0001234).

• Email: permitsR8ES@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 916-414-6561, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
17211C | San Diego Zoo Wildlife Alliance, San Diego, California | • San Diego button-celery (Eryngium aristulatum var. parishii) | CA | Collect herbarium and genetic samples, conduct establishment and maintenance of a living collection or seed bank, conduct propagation, conduct pollination, and do genetic research | Amend.
PER4776540 | Emme Nix, Davis, California | • Blunt-nose leopard lizard (Gambelia silus) | CA | Survey, capture, handle, collect biological samples, tag, and release | New.
081298 | Daniel Weinberg, Albany, California | • California tiger salamander (Ambystoma californiense), Sonoma County and Santa Barbara County distinct population segments • Conservancy fairy shrimp (Branchinecta conservatio) | CA | Survey, capture, handle, release, collect adult vouchers, and collect branchiopod resting eggs | Renew.
|  | • Longhorn fairy shrimp (Branchinecta longiantenna)
|  | • Vernal pool tadpole shrimp (Lepidurus packardi)
|  | • Riverside fairy shrimp (Streptocephalus woottoni)
|  | • San Diego fairy shrimp (Branchinecta sandiegonensis)
75988A | San Diego Natural History Museum, San Diego, California | • Cushenbury oxytheca (Oxytheca parishii var. goodmaniana) • Munz's onion (Allium munzii) | CA | Remove and reduce to possession | Renew.
|  | • San Diego ambrosia (Ambrosia pumila)
|  | • Del Mar manzanita (Arctostaphylos glandulosa subsp. crassifolia)
|  | • Marsh sandwort (Arenaria paludicola)
|  | • Cushenbury milk-vetch (Astragalus albens)
|  | • Braunton's milk-vetch (Astragalus brauntonii)
|  | • Coachella Valley milk-vetch (Astragalus lentiginosus var. coachellae)
|  | • Ventura marsh milk-vetch (Astragalus pycnostachyus var. lanosissimus)
|  | • Coastal dunes milk-vetch (Astragalus tener var. titi)
|  | • Triple-ribbed milk-vetch (Astragalus tricarinatus)
|  | • Atriplex coronata var. notatior (San Jacinto Valley crownscale)
|  | • Nevin's barberry (Berberis nevinii)
|  | • Catalina Island mountain-mahogany (Cercocarpus traskiae)
|  | • Salt marsh bird's-beak (Cordylanthus maritimus subsp. maritimus)
|  | • Orcutt's spineflower (Chorizanthe orcuttiana)
|  | • Slender-horned spineflower (Dodecahema leptoceras)
|  | • Santa Ana River woolly-star (Eriastrum densifolium subsp. sanctorum)
|  | • Cushenbury buckwheat (Eriogonum ovalifolium var. vineum)
|  | • San Diego button-celery (Eryngium aristulatum var. parishii)
|  | • Mexican flannelbush (Fremontodendron mexicanum)
|  | • San Clemente Island woodland-star (Lithophragma maximum)
|  | • Willowy monardella (Monardella viminea )
|  | • Gambel's watercress (Rorippa gambelii [Nasturtium g.])
|  | • California orcutt grass (Orcuttia californica)
|  | • Lyon's pentachaeta (Pentachaeta lyonii)
|  | • San Bernardino Mountains bladderpod (Lesquerella kingii subsp. bernardina)
|  | • San Bernardino bluegrass (Poa atropurpurea)
|  | • San Diego mesa-mint (Pogogyne abramsii)
|  | • Otay mesa-mint (Pogogyne nudiuscula)
|  | • Santa Cruz Island rockcress (Sibara filifolia)
|  | • Pedate checker-mallow (Sidalcea pedata)
|  | • California taraxacum (Taraxacum californicum)
|  | • Slender-petaled mustard (Thelypodium stenopetalum)
11840D | Josh Weinik, Fairfax, California | • Palos Verdes blue butterfly (Glaucopsyche lygdamus palosverdesensis) • El Segundo blue butterfly (Euphilotes battoides allyni) | CA | Survey by pursuit | Renew.
095858 | Arianne Preite, Orange, California | • Conservancy fairy shrimp (Branchinecta conservatio) • Longhorn fairy shrimp (Branchinecta longiantenna) • Vernal pool tadpole shrimp (Lepidurus packardi) • Riverside fairy shrimp (Streptocephalus woottoni) | CA | Survey, survey using recorded vocalizations, survey by pursuit, capture, handle, release, collect adult vouchers, and collect branchiopod resting eggs | Renew.
|  | • San Diego fairy shrimp (Branchinecta sandiegonensis)
|  | • Quino checkerspot butterfly (Euphydryas editha quino)
|  | • Light-footed Ridgway's rail (Rallus obsoletus levipes)
|  | • Southwestern willow flycatcher (Empidonax traillii extimus)
14749C | Lorena Bernal, San Diego, California | • Conservancy fairy shrimp (Branchinecta conservatio) • Longhorn fairy shrimp (Branchinecta longiantenna) • Vernal pool tadpole shrimp (Lepidurus packardi) | CA | Survey, survey by pursuit, capture, handle, release, collect adult vouchers, and collect branchiopod resting eggs | Renew.
|  | • Riverside fairy shrimp (Streptocephalus woottoni)
|  | • San Diego fairy shrimp (Branchinecta sandiegonensis)
|  | • Quino checkerspot butterfly (Euphydryas editha quino)
14231A | Caesara Brungraber, Bend, Oregon | • Conservancy fairy shrimp (Branchinecta conservatio) • Longhorn fairy shrimp (Branchinecta longiantenna) • Vernal pool tadpole shrimp (Lepidurus packardi) | CA | Survey, survey by pursuit, capture, handle, release, collect adult vouchers, and collect branchiopod resting eggs | Renew.
|  | • Riverside fairy shrimp (Streptocephalus woottoni)
|  | • San Diego fairy shrimp (Branchinecta sandiegonensis)
|  | • Quino checkerspot butterfly (Euphydryas editha quino)
PER5167328 | Bernie Villanueva-Grzecka, San Juan Capistrano, California | • Pacific pocket mouse (Perognathus longimembris pacificus) | CA | Conduct track tube surveys | New.
PER5174348 | Michael Voeltz, Walnut Creek, California | • Conservancy fairy shrimp (Branchinecta conservatio) • Longhorn fairy shrimp (Branchinecta longiantenna) | CA | Survey, capture, handle, release, and collect adult vouchers | New.
|  | • Vernal pool tadpole shrimp (Lepidurus packardi)
|  | • Riverside fairy shrimp (Streptocephalus woottoni)
|  | • San Diego fairy shrimp (Branchinecta sandiegonensis)
PER4775202-0 | Krystal Pulsipher, Sacramento, California | • Conservancy fairy shrimp (Branchinecta conservatio) • Longhorn fairy shrimp (Branchinecta longiantenna) | CA | Survey, capture, handle, release, and collect adult vouchers | Renew.
|  | • Vernal pool tadpole shrimp (Lepidurus packardi)
|  | • Riverside fairy shrimp (Streptocephalus woottoni)
|  | • San Diego fairy shrimp (Branchinecta sandiegonensis)
PER4775159 | Andrew Kort, La Mesa, California | • Conservancy fairy shrimp (Branchinecta conservatio) • Longhorn fairy shrimp (Branchinecta longiantenna) • Vernal pool tadpole shrimp (Lepidurus packardi) | CA | Survey, capture, handle, release, collect adult vouchers, and collect branchiopod resting eggs | New.
|  | • Riverside fairy shrimp (Streptocephalus woottoni)
|  | • San Diego fairy shrimp (Branchinecta sandiegonensis)
PER4775578 | California State Parks, Felton, California | • San Francisco garter snake (Thamnophis sirtalis tetrataenia) | CA | Survey, capture, handle, collect biological samples, and release | New.
84156D | Stephen Gergeni, Sacramento, California | • Foothill yellow-legged frog (Rana boylii) South Sierra and South Coast distinct population segments • Sierra Nevada yellow-legged frog (Rana sierrae) | CA | Survey, capture, handle, and release | Amend.
48210A | Area West Environmental, Inc., Orangevale, California | • Foothill yellow-legged frog (Rana boylii) South Sierra and South Coast distinct population segments | CA | Survey, capture, handle, and release | Amend.
PER7646004 | Imperiled Species Breeding Program at Larry Ellison Conservation Center for Wildlife Care, Saratoga, California | • Santa Cruz long-toed salamander (Ambystoma macrodactylum croceum) | CA | Capture, handle, release, relocate, collect genetic material, keep, breed, and study in captivity | New.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of be made available for public disclosure in their entirety.

Next Steps

If we decide to issue permits to any of the applicants listed in this notice, we will publish a notice in the Federal Register.

Authority

We publish this notice under section 10(c) of the Endangered Species Act of 1973, as amended (16 U.S.C. 1531 et seq.).

Rachel Henry,
Acting Regional Ecological Services Program Manager, Pacific Southwest Region, Sacramento, California.

[FR Doc. 2024-02341 Filed 2-5-24; 8:45 am]

BILLING CODE 4333-15-P